DEPARTMENT OF ENERGY

Federal Energy Regulatory Commission

[Docket Nos. ER00-1997-001; ER97-3189-030; ER98-1569-004; ER00-1014-001]

PPL Electric Utilities Corporation; Notice of filing

May 15, 2001

Take notice that on May 10, 2001, PPL Electric Utilities Corporation (PPL) tendered for filing a letter stating that PPL will not be filing the requested effective tariff in accordance with the Commission's letter order on April 13, 2001. The April 13, 2001 letter order directed PPL to file the effective tariff language for a settlement offer filed on March 9, 2001 with Allegheny Electric Cooperative (Allegheny), in accordance with Order No. 614. The subject settlement offer does not contain effective tariff language to be filed in a PPL Electric rate schedule. Rather, the settlement contains specific commitments with regard to the disposition of disputes that were outstanding with Allegheny and with regard to future actions not affecting current jurisdictional service.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before May 31, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-12783 Filed 5-21-01; 8:45 am]

BILLING CODE 6717-01-M